DEPARTMENT OF HEALTH AND HUMAN SERVICES

Agency Information Collection Request. 60-Day Public Comment Request, Grants

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: SF-424 Grants Application Form—OMB No. 4040-0004—Revision-Grants.gov The SF-424 form is an OMB approved collection (4040-0004). Proposed revisions of the SF-424 include global changes created by the Federal Funding Accountability and Transparency Act (Transparency Act). The Transparency Act was signed into law on September 26, 2006 (Pub. L. 109-282). The legislation requires the Office of Management and Budget (OMB) to establish a publicly available, online database containing information about entities that are awarded federal grants, loans, and contracts. The revised form will assist agencies in collecting some of the required data elements for the database through the SF-424 grant applications. This form will be utilized by up to 26 federal grant making agencies.

The SF-424 form revisions incorporate standard data elements required by the Transparency Act such as a nine-digit zip code, the addition of “Parish” to the “County” field, and common language in the form instructions to “Areas Affected by Project” and the “Congressional District Of.” We are requesting a three year clearance of this form. The affected public may include: Federal, State, local, or tribal governments, business or other for profit, and not for profit institutions.

Estimated Annualized Burden Table
Agency | Number of respondents | Number of responses per respondent | Average burden hours per response | Total burden hours
DOC | 16,460 | 1 | 30/60 | 8,230
DOE | 2,700 | 1 | 60/60 | 2,700
ED | 10,235 | 1 | 60/60 | 10,235
EPA | 3,816 | 1 | 240/60 | 15,264
HHS | 5,800 | 1.1551 | 270/60 | 30,148
SSA | 1,000 | 2 | 20/60 | 667
USAID | 200 | 2 | 15/60 | 100
USDA | 229,946 | 1 | 60/60 | 229,946
DOI | 11,604 | 1.8156 | 26/60 | 9,130
Total |  |  |  | 306,420

Seleda Perryman,
Office of the Secretary, Paperwork Reduction Act Reports Clearance Officer.

[FR Doc. E8-25391 Filed 10-23-08; 8:45 am]

BILLING CODE 4151-AE-P